DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: This action was issued on September 12, 2025. See Supplementary Information for relevant dates.

FOR FURTHER INFORMATION CONTACT: OFAC: Associate Director for Global Targeting, 202-622-2420; the Assistant Director for Sanctions Compliance, 202-622-2490 or https://ofac.treasury.gov/contact-ofac.

SUPPLEMENTARY INFORMATION:

Electronic Availability

The SDN List and additional information concerning OFAC sanctions programs are available on OFAC's website: https://ofac.treasury.gov.

Notice of OFAC Action

On September 12, 2025, OFAC determined that the property and interests in property subject to U.S. jurisdiction of the following persons are blocked under the relevant sanctions authority listed below.

Individuals

1. FEDIEL, Gebreil Ibrahim Mohamed (a.k.a. IBRAHIM, Jibril; a.k.a. MOHAMED, Gibril Ibrahim), Port Sudan, Sudan; DOB 10 May 1955; POB Altina, Sudan; nationality Sudan; Gender Male; Passport D00001664 (Sudan) expires 11 Aug 2029 (individual) [SUDAN-EO14098].

Designated pursuant to section 1(a)(ii)(A) of Executive Order 14098 of May 4, 2023, “Imposing Sanctions on Certain Persons Destabilizing Sudan and Undermining the Goal of a Democratic Transition,” (E.O. 14098), 88 FR 29529, for being a foreign person who is or has been a leader, official, senior executive officer, or member of the board of directors of the Justice and Equality Movement, an entity that has, or whose members have been responsible for, or complicit in, or have directly or indirectly engaged or attempted to engage in actions or policies that threaten the peace, security, or stability of Sudan, relating to the tenure of such leader, official, senior executive officer, or member of the board of directors.

Entities

1. AL-BARAA BIN MALIK BRIGADE (a.k.a. AL-BARA' IBN MALIK BRIGADE; a.k.a. AL-BARAA BIN MALIK BATTALION), Sudan; Organization Established Date 07 Jan 2020; Target Type Armed Group [SUDAN-EO14098].

Designated pursuant to section 1(a)(i)(A) of E.O. 14098, for being a foreign person who is responsible for, or complicit in, or who has directly or indirectly engaged or attempted to engage in, actions or policies that threaten the peace, security, or stability of Sudan.

Bradley T. Smith,
Director, Office of Foreign Assets Control.

[FR Doc. 2025-17932 Filed 9-16-25; 8:45 am]

BILLING CODE 4810-AL-P